ENVIRONMENTAL PROTECTION AGENCY

[FRL-8690-2; Docket ID No. EPA-HQ-ORD-2007-0983]

2007 Interim Report of the U.S. EPA Global Change Research Program Assessment of the Impacts of Global Change on Regional U.S. Air Quality: A Preliminary Synthesis of Climate Change Impacts on O3

AGENCY: Environmental Protection Agency (EPA).

ACTION: Notice of Public Comment Period.

SUMMARY: EPA is announcing a 45-day public comment period for the draft document titled, “2007 Interim Report of the U.S. EPA Global Change Research Program Assessment of the Impacts of Global Change on Regional U.S. Air Quality: A Preliminary Synthesis of Climate Change Impacts on O3” (EPA/600/R-07/094). The document was prepared by the National Center for Environmental Assessment within EPA's Office of Research and Development.

EPA is releasing this draft document solely for the purpose of pre-dissemination peer review under applicable information quality guidelines. This document has not been formally disseminated by EPA. It does not represent and should not be construed to represent any Agency policy or determination. EPA will consider any public comments submitted in accordance with this notice when revising the document.

DATES: The 45-day public comment period begins July 10, 2008, and ends August 25, 2008. Technical comments should be in writing and must be received by EPA by August 25, 2008.

ADDRESSES: The draft “2007 Interim Report of the U.S. EPA Global Change Research Program Assessment of the Impacts of Global Change on Regional U.S. Air Quality: A Preliminary Synthesis of Climate Change Impacts on O3” is available primarily via the Internet on the National Center for Environmental Assessment's home page under the Recent Additions and the Data and Publications menus at http://www.epa.gov/ncea. A limited number of paper copies are available from NCEA's Information Management Team; telephone: 703-347-8561; facsimile: 703-347-8691. If you are requesting a paper copy, please provide your name, mailing address, and the document title “2007 Interim Report of the U.S. EPA Global Change Research Program Assessment of the Impacts of Global Change on Regional U.S. Air Quality: A Preliminary Synthesis of Climate Change Impacts on O3.”

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Brooke L. Hemming, PhD, National Center for Environmental Assessment (NCEA); telephone: 919-541-5668; e-mail hemming.brooke@epamail.epa.gov.

SUPPLEMENTARY INFORMATION:

I. Summary of Information About the Project/Document

The “2007 Interim Report of the U.S. EPA Global Change Research Program Assessment of the Impacts of Global Change on Regional U.S. Air Quality: A Preliminary Synthesis of Climate Change Impacts on O3” is intended to provide air quality managers and scientists a summary and synthesis of the scientific results that have emerged from the EPA ORD Global Change Research Program (ORD GCRP) assessment of the impact of global change on U.S. regional air quality. The report discusses the studies that have focused on the sensitivity of U.S. air quality to meteorological changes associated with a warming climate in large regions within the continental U.S.

The EPA recognizes that climate-air quality interactions occur at multiple scales (both spatial and temporal), and that an understanding of these interactions demands contributions from several scientific disciplines. The EPA ORD GCRP developed a research and assessment program that combines the resources and expertise of the ORD labs and centers toward the goal of developing the necessary scientific underpinnings. The ultimate goal of the Program is to provide air quality managers with the scientific information and tools needed to evaluate the implications of global change and to enhance their ability to consider global change in their decisions. The “2007 Interim Report of the U.S. EPA Global Change Research Program Assessment of the Impacts of Global Change on Regional U.S. Air Quality: A Preliminary Synthesis of Climate Change Impacts on O3” is a preliminary step in that direction.

This report provides an update of the progress that has been made in applying climate and atmospheric chemistry models to investigate potential future meteorological effects on air quality. It does not include changes in air pollutant emissions other than those that are explicitly linked to meteorological variables and incorporated within the models (e.g., biogenic VOC emissions). In addition, it provides a preliminary interpretation of what this improved scientific understanding means for air quality management. Future assessment reports will cover the combined impacts of changing climate and air pollutant emissions on air quality. The program also plans to develop additional reports that focus on additional pollutants, including PM and mercury.

NCEA worked collaboratively with the EPA Office of Air and Radiation (OAR), and ORD's National Risk Management Research Laboratory (NRMRL), National Exposure Research Laboratory (NERL) and National Center for Environmental Research (NCER) on this report.

II. How To Submit Technical Comments to the Docket at http://www.regulations.gov

Submit your comments, identified by Docket ID No. EPA-HQ-ORD-2007-0983, by one of the following methods:

• http://www.regulations.gov: Follow the on-line instructions for submitting comments.

• E-mail: ORD.Docket@epa.gov

• Fax: 202-566-1753

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2007-0983. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: June 24, 2008.
Rebecca Clark,
Deputy Director, National Center for Environmental Assessment.

[FR Doc. E8-15727 Filed 7-9-08; 8:45 am]

BILLING CODE 6560-50-P